DEPARTMENT OF ENERGY

Orders Granting Authority To Import and Export Natural Gas, To Import and Export Liquefied Natural Gas To Export Compressed Natural Gas, To Vacate Prior Authority, To Amend Application and Errata During October 2014

| FE Docket Nos.
ALLIANCE CANADA MARKETING L.P | 14-120-NG
CIMA ENERGY, LTD | 14-127-NG
NATIONAL FUEL GAS DISTRIBUTION CORPORATION | 14-134-NG
LIBERTY UTILITIES (ENERGYNORTH NATURAL GAS) CORP. d/b/a LIBERTY UTILITIES | 14-135-NG
BOSTON GAS COMPANY d/b/a NATIONAL GRID | 14-136-NG
COLONIAL GAS COMPANY d/b/a NATIONAL GRID | 14-137-NG
NORTHERN UTILITIES, INC | 14-142-NG
YANKEE GAS SERVICES COMPANY | 14-143-NG
BAY STATE GAS COMPANY d/b/a COLUMBIA GAS OF MASSACHUSETTS | 14-144-NG
TERMOELECTRICA DE MEXICALI, S.A. DE R.L. DE C.V | 14-147-NG
ENHANCED ENERGY SERVICES OF AMERICA, LLC | 14-149-NG
NORTHWESTERN CORPORATION d/b/a) NORTHWESTERN ENERGY | 14-150-NG
MC GLOBAL GAS CORPORATION CORPORATION | 14-153-LNG
CONSOLIDATED EDISON COMPANY OF NEW NEW YORK, INC. AND ORANGE AND ROCKLAND UTILITIES | 14-154-NG
WENTWORTH GAS MARKETING LLC | 14-63-CNG
CLEANCOR ENERGY SOLUTIONS | 14-79-LNG
ALBERTA NORTHEAST GAS, LIMITED | 14-128-NG
PEMEX GAS Y PETROQUIMICA BASICA | 14-129-NG
VENTURE GLOBAL LNG, LLC | 14-88-LNG
TECHGEN S.A. DE C.V | 14-94-NG
MAIN PASS ENERGY HUB, LLC | 14-114-LNG
NORTHEAST GAS MARKETS LLC | 14-130-NG
CENTRAL HUDSON GAS & ELECTRIC CORPORATION | 14-131-NG
CONNECTICUT NATURAL GAS CORPORATION | 14-132-NG
THE SOUTHERN CONNECTICUT GAS COMPANY | 14-133-NG
THE NARRAGANSETT ELECTRIC COMPANY d/b/a NATIONAL GRID | 14-138-NG
KEYSPAN GAS EAST CORPORATION d/b/a NATIONAL GRID | 14-139-NG
THE BROOKLYN UNION GAS COMPANY d/b/a NATIONAL GRID | 14-140-NG
NIAGARA MOHAWK POWER CORPORATION d/b/a NATIONAL GRID | 14-141-NG
GLACIAL NATURAL GAS, INC | 14-145-NG
FORTUNA (US) L.P | 14-146-NG
DTE GAS COMPANY | 14-148-NG
TRANSCANADA PIPELINES LIMITED | 14-151-NG
SPARK ENERGY GAS, LLC | 14-156-NG
TEXAS EASTERN TRANSMISSION, LP | 14-157-NG
ENERGIA CHIHUAHUA, S.A. DE C.V | 14-159-NG
STROM INC | 14-56-LNG
CHENIERE MARKETING, LLC AND CORPUS CHRISTIE LIQUEFACTION, LLC | 12-97-LNG
TAQA NORTH | 14-115-NG
PUGET SOUND ENERGY, INC | 14-123-NG
CASTLETON COMMODITIES MERCHANT TRADING L.P | 14-152-NG
PENGROWTH ENERGY MARKETING CORPORATION | 14-150-NG
CITY OF GLENDALE WATER AND POWER | 14-163-NG

AGENCY: Office of Fossil Energy, Department of Energy (DOE).

ACTION: Notice of orders.

SUMMARY: The Office of Fossil Energy (FE) of the Department of Energy gives notice that during October 2014, it issued orders granting authority to import and export natural gas, to import and export liquefied natural gas (LNG), to export compressed natural gas (CNG), to vacate prior authority, to amend application, and errata. These orders are summarized in the attached appendix and may be found on the FE Web site at http://www.fossil.energy.gov/programs/gasregulation/authorizations/Orders-2014.html.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 25, 2015.
John A. Anderson,
Director, Office of Oil and Gas Global Security and Supply, Office of Oil and Natural Gas.

Appendix—DOE/FE Orders Granting Import/Export Authorizations
3501 | 14-120-NG | 10/02/14 | Alliance Canada Marketing L.P | Order granting blanket authority to import natural gas from Canada.
3502 | 14-127-NG | 10/02/14 | CIMA Energy, Ltd | Order granting blanket authority to import/export natural gas from/to Canada/Mexico.
3503 | 14-134-NG | 10/02/14 | National Fuel Gas Distribution Corporation | Order granting blanket authority to import/export natural gas from/to Canada.
3504 | 14-135-NG | 10/02/14 | Liberty Utilities (EnergyNorth Natural Gas) Corp. d/b/a Liberty Utilities | Order granting blanket authority to import/export natural gas from/to Canada.
3505 | 14-136-NG | 10/02/14 | Boston Gas Company d/b/a National Grid | Order granting blanket authority to import/export natural gas from/to Canada.
3506 | 14-137-NG | 10/02/14 | Colonial Gas Company d/b/a National Grid | Order granting blanket authority to import/export natural gas from/to Canada.
3507 | 14-142-NG | 10/02/14 | Northern Utilities | Order granting blanket authority to import/export natural gas from/to Canada.
3508 | 14-143-NG | 10/02/14 | Yankee Gas Services Company | Order granting blanket authority to import natural gas from Canada.
3509 | 14-144-NG | 10/02/14 | Bay State Gas Company d/b/a Columbia Gas of Massachusetts | Order granting blanket authority to import/export natural gas from/to Canada.
3510 | 14-147-NG | 10/02/14 | Termoelectrica de Mexicali, S. de R.L. de C.V | Order granting blanket authority to import/export natural gas from/to Mexico.
3511 | 14-149-NG | 10/02/14 | Enhanced Energy Services of America, LLC | Order granting blanket authority to import natural gas from Canada.
3512 | 14-150-NG | 10/02/14 | NorthWestern Corporation d/b/a NorthWestern Energy | Order granting blanket authority to import/export natural gas from/to Canada.
3513 | 14-153-LNG | 10/02/14 | MC Global Gas Corporation | Order granting blanket authority to import LNG from various international sources.
3514 | 14-154-NG | 10/02/14 | Consolidated Edison Company of New York, Inc. and Orange and Rockland Utilities | Order granting blanket authority to import/export natural gas from/to Canada.
3515 | 14-63-CNG | 10/07/14 | Wentworth Gas Marketing LLC | Order granting long-term authority to export CNG by vessel from a proposed CNG Compression and Loading facility at the Port of Freeport, Texas, to Free Trade Agreement Nations.
3516 | 14-79-LNG | 10/09/14 | Cleancor Energy Solutions LLC | Order granting authority to export LNG to Canada/Mexico by truck, and to export LNG in ISO Containers transported by vessel to Free Trade Agreement Nations.
3518 | 14-128-NG | 10/09/14 | Alberta Northeast Gas, Limited | Order granting blanket authority to import/export natural gas from/to Canada.
3519 | 14-129-NG | 10/09/14 | Pemex Gas Y Petroquimica Basica | Order granting authority to import/export natural gas from/to Canada/Mexico, and to import LNG from various international sources by vessel.
3520 | 14-88-LNG | 10/10/14 | Venture Global LNG, LLC | Order granting long-term authority Multi-contract authority to export LNG by vessel from the proposed Venture Global LNG Project in Cameron Parish, Louisiana to Free Trade Agreement Nations.
3521 | 14-94-NG | 10/10/14 | Techgen S.A. de C.V | Order granting long-term authority to export natural gas to Mexico.
3220-A | 12-114-LNG | 10/16/14 | Main Pass Energy Hub, LLC | Order vacating authority to export LNG by vessel from the MPEH Deepwater Port located 16 miles offshore the Louisiana Coast in Federal Waters to Free Trade Agreement Nations.
3522 | 14-130-NG | 10/16/14 | Northeast Gas Markets, LLC | Order granting blanket authority to import/export natural gas from/to Canada.
3523 | 14-131-NG | 10/16/14 | Central Hudson Gas & Electric Corporation | Order granting blanket authority to import/export natural gas from/to Canada.
3524 | 14-132-NG | 10/16/14 | Connecticut Natural Gas Corporation | Order granting blanket authority to import/export natural gas from/to Canada.
3525 | 14-133-NG | 10/16/14 | The Southern Connecticut Gas Company | Order granting blanket authority to import/export natural gas from/to Canada.
3526 | 14-138-NG | 10/16/14 | The Narragansett Electric Company d/b/a National Grid | Order granting blanket authority to import/export natural gas from/to Canada.
3527 | 14-139-NG | 10/16/14 | KeySpan Gas East Corporation d/b/a National Grid | Order granting blanket authority to import/export natural gas from/to Canada.
3528 | 14-140-NG | 10/16/14 | The Brooklyn Union Gas Company d/b/a National Grid | Order granting blanket authority to import/export natural gas from/to Canada.
3529 | 14-141-NG | 10/16/14 | Niagara Mohawk Power Corporation d/b/a National Grid | Order granting blanket authority to import/export natural gas from/to Canada.
3530 | 14-145-NG | 10/16/14 | Glacial Natural Gas | Order granting blanket authority to import/export natural gas from/to Canada.
3531 | 14-146-NG | 10/16/14 | Fortuna (US) L.P | Order granting blanket authority to import/export natural gas from/to Canada.
3532 | 14-148-NG | 10/16/14 | DTE Gas Company | Order granting blanket authority to import/export natural gas from/to Canada.
3533 | 14-151-NG | 10/16/14 | TransCanada Pipelines Limited | Order granting blanket authority to import/export natural gas from/to Canada.
3534 | 14-156-NG | 10/16/14 | Spark Energy Gas, LLC | Order granting blanket authority to import natural gas from Canada.
3535 | 14-157-NG | 10/16/14 | Texas Eastern Transmission, LP | Order granting blanket authority to import/export natural gas from/to Mexico.
3536 | 14-159-NG | 10/16/14 | Energia Chihuahua, S.A. de C.V | Order granting blanket authority to export natural gas to Mexico.
3537 | 14-56-LNG | 10/21/14 | Strom Inc. | Order granting long-term authority Multi-contract authority to export LNG by ISO Containers from the proposed Strom LNG Terminal in Starke, Florida to Free Trade Nations.
3538 | 12-97-LNG | 10/29/14 | Cheniere Marketing, LLC and Corpus Christi Liquefaction, LLC | Order Amending Application to Add Corpus Christi Liquefaction, LLC as Applicant.
3539 | 14-115-NG | 10/30/14 | Taqa North | Order granting blanket authority to import natural gas from Canada.
3540 | 14-123-NG | 10/30/14 | Puget Sound Energy, Inc | Order granting long-term authority to import/export natural gas from/to Canada.
3541 | 14-152-NG | 10/30/14 | Castleton Commodities Merchant Trading L.P | Order granting blanket authority to import/export natural gas from/to Canada.
3542 | 14-150-NG | 10/30/14 | Pengrowth Energy Marketing Corporation | Order granting blanket authority to import natural gas from Canada.
3543 | 14-163-NG | 10/30/14 | City of Glendale Water and Power | Order granting blanket authority to import natural gas from Canada.

[FR Doc. 2015-24942 Filed 9-30-15; 8:45 am]

BILLING CODE 6450-01-P